CONSUMER PRODUCT SAFETY COMMISSION

Submission for OMB Review; Comment Request—Follow-Up Activities for Product-Related Injuries

AGENCY: Consumer Product Safety Commission.

ACTION: Notice.

SUMMARY: As required by the Paperwork Reduction Act of 1995 (44 U.S.C. chapter 35), the Commission announces that it has submitted to the Office of Management and Budget a request for an extension of the existing approval of collections of information conducted during follow-up activities for product-related injuries.

DATES: Written comments must be received on or before May 31, 2000.

ADDRESSES: Written comments should be captioned “Product-Related Injuries” and mailed to the Office of Information and Regulatory Affairs, Office of Management and Budget, Attention: Desk Officer for CPSC, 725 17th Street, NW., Washington, DC 20503. Copies of comments also may be mailed to the Office of the Secretary, Consumer Product Safety Commission, Washington, DC 20207; delivered to the Office of the Secretary, Consumer Product Safety Commission, Room 502, 4330 East-West Highway, Bethesda, Maryland 20814, telephone (301) 504-0800; telefacsimilied to (301) 504-0127; or emailed to cpsc-os@cpsc.gov.

FOR FURTHER INFORMATION OR A COPY CONTACT: Linda Glatz, Consumer Product Safety Commission, Washington, D.C. 20207; 301-504-0416 ext. 2226 or by email to lglatz@cpsc.gov.

SUPPLEMENTARY INFORMATION:

1. Background

Section 5(a) of the Consumer Product Safety Act (15 U.S.C. 2054(a)) requires the Commission to collect information related to the cause and prevention of death, injury, and illness associated with consumer products, and to conduct continuing studies and investigations of deaths, injuries, diseases, and economic losses resulting from accidents involving consumer products. The Commission uses this information to support rulemaking proceedings, development and improvement of voluntary standards, information and education programs, and administrative and judicial proceedings to remove unsafe products from the marketplace and consumers' homes.

Persons who have been involved with, or who have witnessed, incidents associated with consumer products are an important source of information about deaths, injuries, and illnesses resulting from such incidents. From consumer complaints, newspaper accounts, death certificates, hospital emergency room reports, and other sources, the Commission selects a limited number of accidents for investigation. These investigations may involve face-to-face or telephone interviews with accident victims, witnesses, or other persons having relevant knowledge.

As required by the Paperwork Reduction Act of 1995 (44 U.S.C. chapter 35) (PRA), the Commission obtained the approval of the Office of Management and Budget (OMB) for this collection of information (OMB control No. 3041-0029). The current approval expires May 31, 2000. The extension is requested through May 31, 2003.

In the Federal Register of January 4, 2000 (65 FR 290), the Consumer Product Safety Commission published a notice, required by the PRA, to announce the agency's intention to seek extension of approval of this collection of information, through May 31, 2003. The estimated burden of this collection of information is 752 hours per year lower than the burden estimated for the currently approved collection. The Commission received one comment, from representatives of seven manufacturers of all-terrain vehicles (ATV's). A summary of this comment, and the Commission's response, is provided later in this notice.

2. Additional Details About the Request for Approval of a Collection of Information

Agency address: Consumer Product Safety Commission, Washington, DC 20207.

Title of information collection: Follow-Up Activities for Product-Related Injuries.

Type of request: Extension of approval.

Frequency of collection: One time for each respondent.

General description of respondents: Persons who have been involved in, have witnessed, or otherwise have knowledge of incidents associated with consumer products.

Estimated number of respondents: Total 8,500: 1,600 subjects of in-depth investigations (IDI's) to be interviewed by telephone and 400 IDI's to be interviewed at the incident site; 2,500 persons who fill out forms on the Commission's internet web site or in Commission publications; and 4,000 persons to be interviewed by CPSC's Hotline operators.

Estimated annual average number of hours per respondent: 20 min. for each telephone interview; 5.0 hours for each on-site interview; 12 min. to fill out a form; 10 min. for each Hotline interview.

Estimated total annual number of hours for all respondents: 3,700.

3. Comments on the Commission's Federal Register Notice Announcing its Intention to Request an Extension of the Approval of this Collection of Information

As noted above, the Commission received one comment, from representatives of seven manufacturers of all-terrain vehicles (ATV's), on its previous Federal Register notice announcing its intention to request an extension of the approval of this collection of information. A summary of this comment, and the Commission's response, is given below.

Comment 1. “The Proposed Extension Notice Indicates CPSC Is Shifting Away From In-Depth Investigations and Increasingly Relying on Unverified Information Submitted By Consumers or Their Legal Representatives.”

Response. The lower number of IDI's between the submissions to OMB in the year 1997 and the year 2000 does not reflect any basic change in CPSC's investigation philosophy.

In 1997, the clearance request covered 700 on-site and 2200 telephone investigations, so that CPSC would have clearance to follow up on every case CPSC analysts determined required an investigation. However, fewer cases than estimated were actually conducted. The 2000 clearance request (400 on-site and 1600 telephone investigations) is consistent with the actual number of investigations now being conducted annually and with the Commission's current resource allocations.

To broaden the scope of data collection, the Commission continues to use multiple data sources, including some anecdotal sources. Newsclips, consumer complaints, coroner reports, and reports received through our Hotline are examples of such anecdotal data sources used by the Commission. The addition of Internet sites to the data collection sources reflects CPSC's continuing efforts to broaden the scope of data collection efforts by identifying and using additional sources as appropriate.

Anecdotal data may help identify hazard patterns that deserve further attention. However, anecdotal data are not used as the basis for product safety determinations. Those determinations use data provided by in-depth investigations. Often, the extent to which an incident is susceptible to independent verification cannot be determined until some follow up, covered by this approval request, is conducted.

Comment 2. “Information Submitted to CPSC Through the Hotline or Over the Internet Regarding Products Such as ATVs is Unverified, Inherently Suspect and Thus of No Practical Utility for Hazard Identification or Analysis.”

Response. Although anecdotal data are collected and utilized by the Commission, these data are not treated as a scientific sample and are not used to make safety determinations about ATV's. Except where states forbid contact with next-of-kin or the initiation of investigations when the source of information is a death certificate, all ATV-related death incidents reported to the Commission are substantiated by exhaustive IDI's. Therefore, the number of ATV investigations is directly related to the number of reports received through the various data sources utilized by the Commission. For ATV-related injuries, the Commission relies upon the scientific sample provided by its National Electronic Injury Surveillance System (NEISS), a stratified cluster sample of reports of hospital emergency-room-treated product-related injuries.

The increase in the number of callers to the Commission's Hotline reflected in the submission to OMB results, at least in part, from Commission efforts to expand and improve information approaches in order to increase public awareness about its role in product safety. For the year 2000 request, CPSC has used the number of incidents expected to be reported to the Hotline (4000) as the number of persons expected to be interviewed by telephone.

Incident reports received through the Hotline are also an important source of incidents assigned for investigation. The decision whether to investigate a product-related incident can involve a number of factors, including the perceived seriousness of the hazard and the number of similar incidents reported.

The Commission's use of the Internet as a data source is a fairly recent example of efforts to expand data collection efforts. The increase in the number of incident reports gathered from the Internet reflects increased use of the Internet. The Internet is a new source of very important incident data, but very few of these reports pertain to ATV's.

These reports are never used as a substitute for investigations. CPSC has historically investigated every ATV-related death. This practice has not changed.

Comment 3. “CPSC Must Be Careful To Avoid Mischaracterization In Its IDIs Regarding ATVs”

Response. CPSC investigators are trained to report the sequence of events in ATV incidents, not just the precipitating event. In each of the cases cited by the commenters as examples of mischaracterization, the investigator correctly reported a collision. Any overturn was reported as an action subsequent to the collision. The incidents are reflected in the database accordingly. The CPSC staff is not aware of any investigation being reported solely as an overturn where it is apparent that some other event preceded the overturn.

Further, when these data are coded for entering into the All-Terrain Vehicle Death (ATVD) database, the first event (such as a collision) is coded as the primary hazard pattern, followed by any subsequent events (such as rollover).

Discrepancies are often encountered in various documents gathered during an investigation. Investigators do their best to resolve such discrepancies and correctly note such information in the investigation report.

4. Comments to OMB on This Request for Extension

Comments on this request for extension of approval of collection of information should be submitted by May 31, 2000, to the addresses given at the beginning of this notice.

Copies of the request for extension of the information collection and supporting documentation are available from Linda Glatz, Management and Program Analyst, Office of Planning and Evaluation, Consumer Product Safety Commission, Washington, DC 20207; telephone: (301) 504-0416, ext. 2226, email lglatz@cpsc.gov.

Dated: April 26, 2000.
Sadye E. Dunn,
Secretary, Consumer Product Safety Commission.

[FR Doc. 00-10833 Filed 4-28-00; 8:45 am]

BILLING CODE 6355-01-P